DEPARTMENT OF AGRICULTURE

Forest Service

Plumas National Forest; Beckwourth Ranger District, California; Beckwourth Ranger District Tall Whitetop Project

AGENCY: Forest Service, USDA.

ACTION: Notice of intent to prepare an Environmental Impact Statement.

SUMMARY: The USDA Forest Service Plumas National Forest will prepare an Environmental Impact Statement (EIS) to eradicate populations of the noxious weed tall whitetop (Lepidium latifolium), along the Middle Fork of the Feather River approximately one-mile southwest of the town of Beckwourth.

DATES: Although comments will be accepted throughout any phase of this project, it would be most helpful if comments on the scope of the analysis were received within 30 days of the date of publication of this notice of intent in the Federal Register. The draft EIS is expected in September 2006 and the final EIS is expected in January 2007.

ADDRESSES: Send written comments to Acting District Ranger, Ronald L. Baer, Plumas National Forest, P.O. Box 7, Blairsden, CA 96103. Fax: (530) 836-0493. Comments may be: (1) Mailed to the Responsible Official; (2) hand delivered between the hours of 8 a.m.-4:30 p.m. weekdays Pacific Time; (3) faxed to (530) 836-0493; or (4) electronically mailed to: comments-pacificsouthwest-plumas@fs.fed.us. Comments submitted electronically must be in Rich Text Format (.rtf).

FOR FURTHER INFORMATION CONTACT: Terry R. Miller, Interdisciplinary Team Leader, Plumas National Forest, Beckwourth Ranger District, P.O. Box 7, Blairsden, CA 96103 (530) 836-2575.

SUPPLEMENTARY INFORMATION:

Project Location

The project area is one-mile southwest of the town of Beckwourth, T23N, R14E Sec. 26, 27, 28, and 29. It is comprised of the river corridor on either side of the junction of county road A-23 and highway 70.

Purpose and Need for Action

The effects of eradicating a noxious weed using an integrative pest management strategy will be analyzed in this EIS. The purpose of the project is to eradicate tall whitetop in the project area. Tall whitetop is invading the project area along the Middle Fork of the Feather River at a rapid rate. In 2003 there was one known location. Currently there are eighty-six tall whitetop locations. These locations total an estimated 36,000 plants over approximately 8 total acres. Hand pulling, over the last four years, at the original known site has proven ineffective for controlling the relatively small population there. Without effective treatment tall whitetop would continue to spread, invading additional acres nearby and potentially spreading throughout the entire corridor of the Middle Fork of the Feather River.

Proposed Action

Scattered populations of the noxious weed, tall whitetop, would be treated in order to eradicate it from the 844-acre project area. These scattered areas total approximately 8 acres, less than 1 percent of the project area.

A three-step process would be used over a period of five years to ensure successful eradication of tall whitetop from the project area. First plants would be mechanically removed by hand pulling or mowing. Then resprouting plants would be chemically treated with herbicides. The three herbicides that are being proposed for use are glyphosate (such as Rodeo™), 2,4-D (such as Weedar 64™), and chlorsulfuron (such as Telar™). Finally, the areas would be seeded with native grasses to revegetate the areas.

Herbicide treatments would be designed to be as effective as possible in eradicating noxious weeds while protecting sensitive resources. By using different herbicides on uplands (areas upslope from the river) and floodplains (areas along the river), treatments would balance effectiveness and resource protection.

Upland habitat in the project area consists of 504 acres, of which two areas totaling 50 square feet are currently infested with tall whitetop. Within this area the use of more persistent herbicides will be prescribed for this area and if new populations are discovered in this habitat over the life of the project. Chlorsulfuron has the necessary persistence and selectivity to be the most effective choice for treatment in upland areas where water quality and riparian habitats are not affected. The advantage of using this herbicide is that the treatment is more effective. Therefore, the number of times the area will be retreated is limited.

Floodplains can generally be described as the area between the water's edge and its high water line. Floodplains make up 340 acres in the project area. Currently, most of the tall whitetop, approximately 8 acres, within the project area exists within the floodplain of the Middle Fork of the Feather River. The least persistent herbicides (glyphosate and the amine formulation of 2,4-D) would be used in the floodplain area where the intent is to minimize any opportunity for residual chemicals to be present in the soil and wash or leach into the watercourse. Herbicides selected for these areas are those approved for use because they are proven to have the lowest potential impacts to water and aquatic species and related habitat. The application of herbicides in these areas would occur after the last high water event of the season, with ample time allowed for chemical degradation prior to the first high water event of the next year. It is anticipated that chemical treatment in the floodplain zone would occur from May through July.

The proposed herbicides and their maximum application rates in acid equivalent per acre or active ingredient per acre are 2,4-D (1.9 lbs AE/ac ), Glyphosate (3.0 lbs AE/ac), Chlorsulfuron (1.125 oz a.i./ac/). In addition to the specific herbicides, the additive R-11 and a colorant would be utilized. R-11 is a spreader/activator that improves the activity and penetration of the herbicide by reducing surface tension, allowing the herbicide mixture to spread evenly over the surface of the vegetation. The colorant is added to indicate where the herbicide has been applied.

Lead Agency: The USDA Forest Service is the lead agency for this proposal.

Responsible Official: Beckwourth Ranger District Acting District Ranger, Ronald L. Baer is the responsible official. Beckwourth Ranger District, P.O. Box 7, Blairsden, CA 96103.

Nature of Decision To Be Made

The responsible official will decide whether to implement this project as proposed, implement the project based on an alternative to this proposal that is formulated to resolve identified issues or not implement this project at this time. The responsible official will be the Beckwourth Ranger District Acting District Ranger.

Scoping Process

Public questions and comments regarding this proposal are an integral part of this environmental analysis process. Comments will be used to identify issues and develop alternatives to the proposed action. To assist the Forest Service in identifying and considering issues and concerns on the proposed action, comments should be as specific as possible.

A copy of the proposed action and/or a summary of the proposed action will be mailed to adjacent landowners, as well as to those people and organizations that have indicated a specific interest in the Beckwourth Ranger District Tall Whitetop project, to Native American entities, and federal, state and local agencies. The public will be notified of any meetings regarding this proposal by mailings and press releases sent to the local newspaper and media. There are no meetings planned at this time.

Permits or Licenses Required: None.

Comment

This notice of intent initiates the scoping process which guides the development of the EIS. Our desire is to receive substantive comments on the merits of the proposed action, as well as comments that address errors, misinformation, or information that has been omitted. Substantive comments are defined as comments within the scope of the proposal, that have a direct relationship to the proposal, and that include supporting reasons for the responsible official's consideration.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45-day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

Authority: 40 CFR 1501.7 and 1508.22; Forest Service Handbook 1909.15, section 21.

Dated: May 1, 2006.
Ronald L. Baer,
Acting District Ranger.

[FR Doc. E6-7022 Filed 5-8-06; 8:45 am]

BILLING CODE 3410-11-P